NUCLEAR REGULATORY COMMISSION

[NRC-2018-0231]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from September 25, 2018 to October 5, 2018. The last biweekly notice was published on October 9, 2018.

DATES: Comments must be filed by November 23, 2018. A request for a hearing must be filed by December 24, 2018.

ADDRESSES: You may submit comments by any of the following methods

• Federal Rulemaking website: Go to http://www.regulations.gov and search for Docket ID NRC-2018-0231. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.rohrer@nrc.gov.

SUPPLEMENTARY INFORMATION:

I. Obtaining Information and Submitting Comments

A. Obtaining Information

Please refer to Docket ID NRC-2018-0231 facility name, unit number(s), plant docket number, application date, and subject when contacting the NRC about the availability of information for this action. You may obtain publicly-available information related to this action by any of the following methods:

• Federal Rulemaking website: Go to http://www.regulations.gov and search for Docket ID NRC-2018-0231.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR:You may examine and purchase copies of public documents at the NRC's PDR, Room O1-F21, One White Flint North, 11555 Rockville Pike, Rockville, Maryland 20852.

B. Submitting Comments

Please include Docket ID NRC-2018-0231 facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in section 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment application(s), see the application for amendment which is available for public inspection in ADAMS and at the NRC's PDR. For additional direction on accessing information related to this document, see the “Obtaining Information and Submitting Comments” section of this document.

Duke Energy Carolinas, LLC, Docket Nos. 50-413 and 50-414, Catawba Nuclear Station (Catawba), Units 1 and 2 (CNS), York County, South Carolina

Duke Energy Carolinas, LLC, Docket Nos. 50-369 and 50-370, McGuire Nuclear Station (McGuire), Units 1 and 2 (MNS), Mecklenburg County, North Carolina

Duke Energy Progress, LLC, Docket No. 50-400, Shearon Harris Nuclear Power Plant (Harris), Unit 1 (HNP), Wake County, North Carolina

Duke Energy Progress, LLC, Docket No. 50-261, H. B. Robinson Steam Electric Plant (Robinson), Unit No. 2 (RNP), Darlington County, South Carolina

Date of amendment request: May 10, 2018. A publicly-available version is in ADAMS under Accession No. ML18131A068.

Description of amendment request: The amendments would revise the technical specifications (TSs) for Catawba and McGuire to remove ventilation system heaters. Specifically, ventilation system heaters will be removed from Catawba TSs 3.6.10, “Annulus Ventilation System (AVS),” and 3.7.10, “Control Room Area Ventilation System (CRAVS),” 3.7.12, “Auxiliary Building Filtered Ventilation Exhaust System (ABFVES),” 3.7.13, “Fuel Handling Ventilation Exhaust System (FHVES),” and 3.9.3, “Containment Penetrations,” 5.5.11, “Ventilation Filter Testing Program (VFTP),” and 5.6.6, “Ventilation Systems Heater Report,” and McGuire TSs 3.6.10, “Annulus Ventilation System (AVS),” 3.7.9, “Control Room Area Ventilation System (CRAVS),” 5.5.11, “Ventilation Filter Testing Program (VFTP),” and 5.6.6, “Ventilation Systems Heater Failure Report.” The specified relative humidity for charcoal testing in the ventilation system Surveillance Requirement (for Harris) and Ventilation Filter Testing Program (for Robinson) is revised from 70% to 95% and the ventilation system heaters will be removed from the Harris TSs ¾.7.6, “Control Room Emergency Filtration System,” ¾.7.7, “Reactor Auxiliary Building (RAB) Emergency Exhaust System,” and ¾.9.12, “Fuel Handling Building Emergency Exhaust System,” and Robinson TSs 3.7.11, “Fuel Building Air Cleanup System (FBACS),” and 5.5.11, “Ventilation Filter Testing Program (VFTP).” The proposed changes are consistent with Technical Specifications Task Force (TSTF) Traveler TSTF-522, “Revise Ventilation System Surveillance Requirements to Operate for 10 Hours per Month,” Revision 0. Additionally, an administrative error is being corrected in McGuire's TS 5.5.11, “Ventilation Filter Testing Program (VFTP).”

Basis for proposed no significant hazards consideration determination: As required by 10 CFR 50.91(a), the licensee has provided its analysis of the issue of no significant hazards consideration, which is presented below:

1. Does the proposed change involve a significant increase in the probability or consequences of an accident previously evaluated?

Response: No.

The proposed change affects various CNS [Catawba Nuclear Station], MNS [McGuire Nuclear Station], HNP [Shearon Harris Nuclear Power Plant], and RNP [H. B. Robinson Steam Electric Plant] ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH [relative humidity], which is more stringent than the current testing requirement of 70% RH.

These systems are not accident initiators and therefore, these changes do not involve a significant increase in the probability of an accident. The proposed system and filter testing changes are consistent with current regulatory guidance for these systems and will continue to assure that these systems perform their design function, which may include mitigating accidents. Thus the change does not involve a significant increase in the consequences of an accident.

Therefore, it is concluded that this change does not involve a significant increase in the probability or consequences of an accident previously evaluated.

2. Does the proposed change create the possibility of a new or different kind of accident from any accident previously evaluated?

Response: No.

The proposed change affects various CNS, MNS, HNP, and RNP ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH, which is more stringent than the current testing requirement of 70% RH.

The change proposed for these ventilation systems do not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The proposed change affects various CNS, MNS, HNP, and RNP ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH, which is more stringent than the current testing requirement of 70% RH.

The proposed increase to 95% RH in the required testing of the charcoal filters for HNP and RNP, compensates for the function of the heaters, which was to reduce the humidity of the incoming air to below the currently-specified value of 70% RH for the charcoal. The proposed change is consistent with regulatory guidance and continues to ensure that the performance of the charcoal filters is acceptable.

The CNS and MNS ventilation systems are tested at 95% relative humidity, and, therefore, do not require heaters to heat the incoming air and reduce the relative humidity. The proposed change eliminates Technical Specification requirements for testing of heater operation, and removes administrative actions for heater inoperability.

The proposed changes are consistent with the regulatory guidance and do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Kathryn B. Nolan, Deputy General Counsel, Duke Energy Corporation, 550 South Tryon Street, Mail Code DEC45A, Charlotte, NC 28202.

NRC Branch Chief: Michael Markley.

Duke Energy Progress, LLC (Duke Energy), Docket No. 50-261, H. B. Robinson Steam Electric Plant, Unit No. 2, Darlington County, South Carolina

Date of amendment request: April 16, 2018, as supplemented by letter dated September 25, 2018. Publicly-available versions are in ADAMS under Accession Nos. ML18117A006 and ML18269A009, respectively.

Description of amendment request: The proposed amendment would modify the Technical Specifications (TSs) by relocating specific TS surveillance frequencies to a licensee-controlled program with the adoption of Technical Specification Task Force (TSTF) Traveler TSTF-425, Revision 3, “Relocate Surveillance Frequencies to Licensee Control—Risk Informed Technical Specification Task Force (RITSTF) Initiative 5b.” Additionally, the change would add a new program, the Surveillance Frequency Control Program, to TS Section 5, Administrative Controls.

Basis for proposed no significant hazards consideration determination: As required by 10 CFR 50.91(a), the licensee has provided its analysis of the issue of no significant hazards consideration, which is presented below:

1. Does the proposed change involve a significant increase in the probability or consequences of an accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements and be capable of performing any mitigation function assumed in the accident analysis. As a result, the consequences of any accident previously evaluated are not significantly increased.

Therefore, the proposed change does not involve a significant increase in the probability or consequences of an accident previously evaluated.

2. Does the proposed change create the possibility of a new or different kind of accident from any accident previously evaluated?

Response: No.

No new or different accidents result from utilizing the proposed change. The changes do not involve a physical alteration of the plant (that is, no new or different type of equipment will be installed) or a change in the methods governing normal plant operation. In addition, the changes do not impose any new or different requirements. The changes do not alter assumptions made in the safety analysis. The proposed changes are consistent with the safety analysis assumptions and current plant operating practice.

Therefore, the proposed change does not create the possibility of a new or different kind of accident from any accident previously evaluated.

3. Does the proposed change involve a significant reduction in a margin of safety?

Response: No.

The design, operation, testing methods and acceptance criteria for systems, structures and components (SSCs), specified in applicable codes and standards (or alternatives approved for use by the NRC) will continue to be met as described in the plant licensing basis (including the final safety analysis report and bases to the TS), since these are not affected by changes to the surveillance frequencies. Similarly, there is no impact to safety analysis acceptance criteria as described in the plant licensing basis. To evaluate a change in the relocated surveillance frequency, Duke Energy will perform a probabilistic risk evaluation using the guidance contained in NRC approved Nuclear Energy Institute (NEI) 04-10, Revision 1, in accordance with the TS Surveillance Frequency Control Program. NEI 04-10, Revision 1 methodology provides reasonable acceptance guidelines and methods for evaluating the risk increase of proposed changes to surveillance frequencies consistent with Regulatory Guide 1.177, “An Approach for Plant-Specific, Risk Informed Decision making: Technical Specifications.”

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, DEC45A, Charlotte, NC 28202.

NRC Branch Chief: Undine Shoop.

Exelon Generation Company, LLC, Docket Nos. 50-352 and 50-353, Limerick Generating Station, Units 1 and 2, Montgomery County, Pennsylvania

Date of amendment request: August 23, 2018. A publicly-available version is in ADAMS under Accession No. ML18235A109.

Description of amendment request: The amendments would revise the Limerick Generating Station (LGS), Units 1 and 2, Technical Specifications. The proposed changes would revise the TS requirements for inoperable dynamic restraints (snubbers) by adding a new Limiting Condition for Operation 3.0.8.

Basis for proposed no significant hazards consideration determination: As required by 10 CFR 50.91(a), the licensee has provided its analysis of the issue of no significant hazards consideration, which is presented below:

1. Does the proposed change involve a significant increase in the probability or consequences of an accident previously evaluated?

Response: No.

The proposed change allows a delay time before declaring supported Technical Specification (TS) systems inoperable when the associated snubber(s) cannot perform its required safety function. Entrance into Actions or delaying entrance into Actions is not an initiator of any accident previously evaluated. Consequently, the probability of an accident previously evaluated is not significantly increased. The consequences of an accident while relying on the delay time allowed before declaring a TS supported system inoperable and taking its Actions are no different than the consequences of an accident under the same plant conditions while relying on the existing TS supported system Actions. Therefore, the consequences of an accident previously evaluated are not significantly increased by this change. Therefore, the proposed change does not involve a significant increase in the probability or consequences of an accident previously evaluated.

2. Does the proposed change create the possibility of a new or different kind of accident from any accident previously evaluated?

Response: No.

The proposed change allows a delay time before declaring supported TS systems inoperable when the associated snubber(s) cannot perform its required safety function. The proposed change does not involve a physical alteration of the plant (no new or different type of equipment will be installed) or a change in the methods governing normal plant operation. Therefore, the proposed change does not create the possibility of a new or different kind of accident from any accident previously evaluated.

3. Does the proposed change involve a significant reduction in a margin of safety?

Response: No.

The current LGS TS 3.7.4 allows a delay time before declaring supported TS systems inoperable when the associated snubber(s) cannot perform its required safety function. The proposed TS 3.0.8 provides a similar allowance. The current LGS TS 3.7.4 provides adequate margin of safety for plant operation, as does TS 3.0.8. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Exelon Generation Company, LLC, Docket Nos. 50-317 and 50-318, Calvert Cliffs Nuclear Power Plant, Units 1 and 2, Calvert County, Maryland

Date of amendment request: August 23, 2018. A publicly available version is in ADAMS under Accession No. ML18235A199.

Description of amendment request: The amendments would revise the Calvert Cliffs Nuclear Power Plant, Units 1 and 2 (Calvert Cliffs or CCNPP) Technical Specifications (TS) to permit a one-time extension to the completion times (CTs) for two required actions in Section 3.8.1, “AC [Alternating Current] Sources-Operating,” of the Calvert Cliffs TSs. The one-time extensions up to 14 days would apply to Required Action A.3, “Restore required offsite circuit to OPERABLE status,” and Required Action D.3, “Declare CREVS [Control Room Emergency Ventilation System] and CRETS [Control Room Emergency Temperature Control System] supported by the inoperable offsite circuit inoperable.”

Basis for proposed no significant hazards consideration determination: As required by 10 CFR 50.91(a), the licensee has provided its analysis of the issue of no significant hazards consideration, which is presented below:

1. Do the proposed changes involve a significant increase in the probability or consequences of an accident previously evaluated?

Response: No.

The proposed TS changes will not increase the probability of an accident since they will only extend the time period that one qualified offsite circuit can be out of service. The extension of the time duration that one qualified offsite circuit is out of service has no direct physical impact on the plant. The proposed inoperable offsite circuit limits the available redundancy of the offsite electrical system to a period not to exceed 14 days per each Unit. Therefore, the proposed TS changes do not have a direct impact on the plant that would make an accident more likely to occur due to their extended completion times.

During transients or events which require these subsystems to be operating, there is sufficient capacity in the operable loops/subsystems and available but inoperable equipment to support plant operation or shutdown. Therefore, failures that are accident initiators will not occur more frequently than previously postulated as a result of the proposed changes.

In addition, the consequences of an accident previously evaluated in the Updated Final Safety Analysis Report (UFSAR) will not be increased. With one offsite circuit inoperable, the consequences of any postulated accidents occurring on Unit 1 or Unit 2 during these CT extensions was found to be bounded by the previous analyses as described in the UFSAR.

The minimum equipment required to mitigate the consequences of an accident and/or safely shut down the plant will be operable or available. Therefore, by extending certain CTs and extending the assumptions concerning the combinations of events for the longer duration of each extended CT, Exelon concludes that at least the minimum equipment required to mitigate the consequences of an accident and/or safely shut down the plant will still be operable or available during the extended CT.

Therefore, the proposed changes do not involve a significant increase in the probability or consequences of an accident previously evaluated.

2. Do the proposed changes create the possibility of a new or different kind of accident from any accident previously evaluated?

Response: No.

The proposed TS changes will not create the possibility of a new or different type of accident since they will only extend the time period that one of the offsite circuits can be out of service. The extension of the time duration that one offsite circuit can be out of service has no direct physical impact on the plant and does not create any new accident initiators. The systems involved are accident mitigation systems. All of the possible impacts that the inoperable equipment may have on its supported systems were previously analyzed in the UFSAR and are the basis for the present TS Action statements and CTs. The impact of inoperable support systems for a given time duration was previously evaluated and any accident initiators created by the inoperable systems was evaluated. The lengthening of the time duration does not create any additional accident initiators for the plant.

Therefore, the proposed changes do not create the possibility of a new or different kind of accident from any accident previously evaluated.

3. Do the proposed changes involve a significant reduction in a margin of safety?

Response: No.

The present offsite circuit TS CT limits were set to ensure that sufficient safety-related equipment is available for response to all accident conditions and that sufficient decay heat removal capability is available for a loss-of-coolant accident (LOCA) coincident with a loss of offsite power (LOOP) on one unit and simultaneous safe shutdown of the other unit. A slight reduction in the margin of safety is incurred during the proposed extended CT due to the increased risk that an event could occur in a 14-day period versus a 72-hour period. This increased risk is judged to be minimal due to the low probability of an event occurring during the extended CT and maintaining the minimum ECCS [emergency core cooling system]/decay heat removal requirements.

The slight reduction in the margin of safety from the extension of one offsite circuit current CT limit is not significant since the remaining operable offsite circuit, the emergency diesel generators, the Station Blackout (SBO) Diesel, the Southern Maryland Electric Cooperative (SMECO) delayed offsite circuit, and the FLEX diesel generators provide an effective defense-in-depth plan to support the station electrical plant configurations during the extended 14-day CT periods.

Operations personnel are fully qualified by normal periodic training to respond to, and mitigate, a Design Basis Accident, including the actions needed to ensure decay heat removal while CCNPP Unit 1 and Unit 2 are in the operational electrical configurations described within this submittal. Accordingly, existing procedures are in place that address safe plant shutdown and decay heat removal for situations applicable to those in the proposed CTs.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Southern Nuclear Operating Company, Docket Nos. 52-025 and 52-026, Vogtle Electric Generating Plant, Units 3 and 4, Burke County, Georgia

Date of amendment request: August 31, 2018. A publicly-available version is in ADAMS under Accession No. ML18243A459.

Description of amendment request: The amendment request includes a departure from information in the Updated Final Safety Analysis Report (UFSAR) (which includes the plant-specific Design Control Document (DCD) Tier 2 information and involves related changes to plant-specific Tier 1 information, with corresponding changes to the associated combined license (COL) appendix C information. Specifically, the changes are proposed for reactor coolant system flow coast down curves in UFSAR and COL appendix C. Pursuant to the provisions of 10 CFR 52.63(b)(1), an exemption from elements of the design as certified in the 10 CFR part 52, appendix D, design certification rule is also requested for the plant-specific DCD Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not adversely affect the operation of any systems or equipment that initiate an analyzed accident or alter any structures, systems, and components (SSC) accident initiator or initiating sequence of events. The proposed changes do not adversely affect the physical design and operation of the RCPs [reactor coolant pumps] including as-installed inspections, testing, and maintenance requirements, as described in the UFSAR. Therefore, the operation of the RCPs is not adversely affected. A CLOF [complete loss of flow] event is identified as an event that is sensitive to RCP coastdown. However, the proposed changes do not adversely affect the probability of a CLOF occurring. Therefore, the probabilities of the accidents previously evaluated in the UFSAR are not affected.

The proposed changes do not adversely affect the ability of the RCPs to perform its design functions. The design of the RCPs continues to meet the same regulatory acceptance criteria, codes, and standards as required by the UFSAR. The proposed changes do not adversely affect the prevention and mitigation of other abnormal events, e.g., anticipated operational occurrences, earthquakes, floods and turbine missiles, or their safety or design analyses. Therefore, the consequences of the accidents evaluated in the UFSAR are not affected.

Therefore, the proposed amendment does not involve a significant increase in the probability or consequences of an accident previously evaluated.

2. Does the proposed amendment create the possibility of a new or different kind of accident from any accident previously evaluated?

Response: No.

The proposed changes would not introduce a new failure mode, fault, or sequence of events that could result in a radioactive material release. The proposed changes do not alter the design, configuration, or method of operation of the plant beyond standard functional capabilities of the equipment. Therefore, this activity does not allow for a new fission product release path, result in a new fission product barrier failure mode, or create a new sequence of events which results in significant fuel cladding failures.

Therefore, the proposed amendment does not create the possibility of a new or different kind of accident from any accident previously evaluated.

3. Does the proposed amendment involve a significant reduction in a margin of safety?

Response: No.

Safety margins are applied at many levels to the design and licensing basis functions and to the controlling values of parameters to account for various uncertainties and to avoid exceeding regulatory or licensing limits. The proposed changes maintain existing safety margins, and in some cases, provide additional margin. The proposed changes maintain the capabilities of the RCPs to perform its design functions. Therefore, the proposed changes satisfy the same design functions in accordance with the same codes and standards as stated in the UFSAR. These changes do not adversely affect any design code, function, safety analysis, safety analysis input or results, or design/safety margin. No safety analysis or design basis acceptance limit/criterion is challenged or exceeded by the proposed changes, and no margin of safety is reduced.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Inc., Docket Nos. 50-348 and 50-364, Joseph M. Farley Nuclear Plant (Farley), Units 1 and 2, Houston County, Alabama

Southern Nuclear Operating Company, Inc., Docket Nos. 50-321 and 50-366, Edwin I. Hatch Nuclear Plant (Hatch), Unit Nos. 1 and 2, City of Dalton, Georgia

Southern Nuclear Operating Company, Inc., (SNC) Docket Nos. 50-424, 50-425, 52-025, 52-026, Vogtle Electric Generating Plant (VEGP), Units 1, and 2, Burke County, Georgia

Date of amendment request: August 9, 2018. A publicly-available version is in ADAMS under Accession No. ML18226A094.

Description of amendment request: The amendments would modify technical specification (TS) 5.2.2.g to eliminate a dedicated shift technical advisor (STA) position at Farley and Hatch by allowing the STA functions to be combined with one or more of the required senior licensed operator positions. The Vogtle TS change aligns the facilities with equivalent wording. This proposed change also incorporates wording related to the modes of operation during which the individual meeting the requirements in TS 5.2.2.g is required and provides guidance that the same individual may provide advisory technical support for both units.

Basis for proposed no significant hazards consideration determination: As required by 10 CFR 50.91(a), the licensee has provided its analysis of the issue of no significant hazards consideration, which is presented below:

1. Does the proposed amendment involve a significant increase in the probability or consequences of an accident previously evaluated?

Response: No.

The advisory technical support function and on-shift staffing requirements are not associated with an initiator of any accident previously evaluated, so the probability of accidents previously evaluated is unaffected by the proposed change. In addition, the proposed change does not alter the design or safety function of any safety related system. The proposed change emends the STA role as a function in lieu of a position and reduces the minimum required on-shift EP [emergency plan] staffing for [Hatch] and [Farley] by one. Minimum staffing studies were re-performed and confirmed on-shift staffing continues to be adequate to perform critical functions until relieved by the augmented emergency response organization (ERO) as required by 10 CFR 50.47(b)(2) and 10 CFR 50, Appendix E, Paragraph IV.A.9. As a result, manual operator action necessary to mitigate previously evaluated accidents continue to be persevered. Thus, the consequences of any accident are not affected by the proposed change.

Therefore, the proposed change does not involve a significant increase in the probability or consequences of an accident previously evaluated.

2. Does the proposed amendment create the possibility of a new or different kind of accident from any accident previously evaluated?

Response: No.

The proposed change emends the STA role as a function in lieu of a position and reduces the minimum required on-shift EP staffing for [Hatch] and [Farley] by one. The proposed change does not involve a physical alteration of the plant (i.e., no new or different type of equipment will be installed), a change in the method of plant operation, or new operator actions. The proposed change does not introduce failure modes that could result in a new accident, and the change does not alter assumptions made in the safety analysis. As a result, there are no new accident scenarios, failure mechanisms, including no new single failures, introduced as a result of the proposed change.

Therefore, the proposed change does not create the possibility of a new or different kind of accident from any previously evaluated.

3. Does the proposed amendment involve a significant reduction in a margin of safety?

Response: No.

Safety margins are applied to the design and licensing basis functions and to the controlling values of parameters to account for various uncertainties and to avoid exceeding regulatory or licensing limits. The proposed change emends the STA role as a function in lieu of a position and reduces the minimum required on-shift EP staffing for [Hatch] and [Farley] by one. The change does not impact any specific values that define margin established in each plant's licensing basis and, as a result, does not result in exceeding or altering a design basis or safety limit (i.e., the controlling numerical value for a parameter established in the [updated final safety analysis report] or the licenses). On-shift staffing continues to be adequate to perform critical functions until relieved by the augmented ERO as required by 10 CFR 50.47(b)(2) and 10 CFR 50, Appendix E, Paragraph IV.A.9.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Dominion Nuclear Connecticut, Inc., Docket No. 50-336, Millstone Power Station, Unit No. 2, New London County, Connecticut

Date of amendment request: October 4, 2017, as supplemented by letters dated May 24, 2018, and June 14, 2018.

Brief description of amendment: The amendment revised Millstone Power Station, Unit No. 2, Technical Specification 6.19, “Containment Leakage Rate Testing Program.” Specifically, the amendment extends the Type A primary containment integrated leak rate test interval for Millstone Power Station, Unit No. 2, from 10 years to 15 years and the Type C local leak rate test interval to 75 months, and incorporates the regulatory positions stated in Regulatory Guide 1.163, “Performance-Based Containment Leak-Test Program.”

Date of issuance: September 25, 2018.

Effective date: As of the date of issuance and shall be implemented within 60 days of issuance.

Amendment No.: 335. A publicly-available version is in ADAMS under Accession No. ML18246A007; documents related to this amendment are listed in the Safety Evaluation enclosed with the amendment.

Renewed Facility Operating License No. DPR-65: The Amendment revised the Renewed Facility Operating License and Technical Specifications.

Date of initial notice in Federal Register: January 2, 2018 (83 FR 163). The supplemental letters dated May 24, 2018, and June 14, 2018, provided additional information that clarified the application, did not expand the scope of the application as originally noticed, and did not change the NRC staff's original proposed no significant hazards consideration determination as published in the Federal Register.

The Commission's related evaluation of the amendment is contained in a Safety Evaluation dated September 25, 2018.

No significant hazards consideration comments received: No.

Duke Energy Progress, LLC, Docket Nos. 50-325 and 50-324, Brunswick Steam Electric Plant, Units 1 and 2 (Brunswick), Brunswick County, North Carolina

Date of amendment request: September 6, 2016, as supplemented by letters dated November 9, 2016; April 6 and November 1, 2017; and February 5, February 14, March 1, March 14, March 29 and April 10, 2018.

Brief description of amendments: The amendments approve a revision to the Technical Specifications (TSs) to allow plant operation from the currently licensed Maximum Extended Load Line Limit Analysis (MELLLA) domain to operate in the expanded MELLLA Plus domain under the previously approved Extended Power Uprate conditions, including a 2923 megawatt thermal rated core thermal power. The amendments expand the operating boundary without changing the maximum licensed core power and maximum licensed core flow.

Date of issuance: September 18, 2018.

Effective date: As of the date of issuance and shall be implemented no later than 60 days following startup from the 2019 Unit 2 refueling outage.

Amendment Nos.: 285 (Unit 1) and 313 (Unit 2). A publicly-available version is in ADAMS under Accession No. ML18172A258; documents related to these amendments are listed in the Safety Evaluation enclosed with the amendments.

Renewed Facility Operating License Nos. DPR-71 and DPR-62: Amendments revised the Renewed Facility Operating Licenses and TSs.

Date of initial notice in Federal Register: January 3, 2017 (82 FR 158). The supplemental letters dated November 9, 2016; April 6 and November 1, 2017; and February 5, February 14, March 1, March 14, March 29 and April 10, 2018, provided additional information that clarified the application, did not expand the scope of the application as originally noticed, and did not change the NRC staff's original proposed no significant hazards consideration determination as published in the Federal Register.

The Commission's related evaluation of the amendments is contained in a Safety Evaluation dated September 18, 2018.

No significant hazards consideration comments received: No.

Duke Energy Progress, LLC, Docket Nos. 50-325 and 50-324, Brunswick Steam Electric Plant, Units 1 and 2, Brunswick County, North Carolina

Date of amendment request: October 3, 2017.

Brief description of amendments: The amendments revised Surveillance Requirement (SR) 3.8.4.5 contained in Technical Specification (TS) 3.8.4, “DC Sources—Operating.”

Date of issuance: September 27, 2018.

Effective date: As of the date of issuance and shall be implemented within 120 days.

Amendment Nos.: 286 and 314. A publicly-available version is in ADAMS under Accession No. ML18243A298; documents related to these amendments are listed in the Safety Evaluation enclosed with the amendments.

Renewed Facility Operating License Nos. DPR-71 and DPR-62: Amendments revised the Renewed Facility Operating Licenses and TSs.

Date of initial notice in Federal Register: March 13, 2018 (83 FR 10915).

The Commission's related evaluation of the amendments is contained in a Safety Evaluation dated September 27, 2018.

No significant hazards consideration comments received: No.

Entergy Nuclear Operations, Inc., Docket No. 50-255, Palisades Nuclear Plant, Van Buren County, Michigan

Date of amendment request: August 31, 2017, as supplemented by letter dated April 16, 2018.

Brief description of amendment: The amendment revised the Palisades Nuclear Plant (PNP) Site Emergency Plan (SEP) for the permanently shut down and defueled condition. The proposed PNP SEP changes would revise the shift staffing and Emergency Response Organization (ERO) staffing.

Date of issuance: September 24, 2018.

Effective date: Upon the licensee's submittal of the certifications required by Title 10 of the Code of Federal Regulations, Part 50, Section 82(a)(1) and shall be implemented within 90 days from the amendment effective date.

Amendment No.: 267. A publicly-available version is in ADAMS under Accession No. ML18170A219; documents related to this amendment are listed in the Safety Evaluation enclosed with the amendment.

Renewed Facility Operating License No. DPR-20: Amendment revised the Renewed Facility Operating License.

Date of initial notice in Federal Register: November 21, 2017 (82 FR 55403). The supplemental letter dated April 16, 2018, provided additional information that clarified the application, did not expand the scope of the application as originally noticed, and did not change the staff's original proposed no significant hazards consideration determination as published in the Federal Register.

The Commission's related evaluation of the amendment is contained in a Safety Evaluation dated September 24, 2018.

No significant hazards consideration comments received: No.

Exelon Generation Company, LLC, Docket Nos. 50-277 and 50-278, Peach Bottom Atomic

Power Station, Units 2 and 3, York County, Pennsylvania

Date of amendment request: September 29, 2017, as supplemented by letters dated August 1, August 14, and September 14, 2018.

Brief description of amendments: The amendments added new actions for an inoperable battery, battery charger, and alternate battery charger testing criteria. A longer completion time for an inoperable battery charger will allow additional time for maintenance and testing. Additionally, a number of surveillance requirements are relocated to licensee control. Monitoring of battery cell parameter requirements and performance of battery maintenance activities are relocated to a licensee-controlled program, the Peach Bottom Atomic Power Station, Units 2 and 3, Technical Requirements Manual. The changes in the Technical Specification requirements are consistent with NRC-approved Technical Specifications Task Force (TSTF) Traveler TSTF-500, Revision 2, “DC Electrical Rewrite—Update to TSTF-360.”

Date of issuance: September 28, 2018.

Effective date: As of the date of issuance and shall be implemented by no later than September 30, 2019.

Amendment Nos.: 320 (Unit 2) and 323 (Unit 3). A publicly-available version is in ADAMS under Accession No. ML18249A240; documents related to these amendments are listed in the Safety Evaluation enclosed with the amendments.

Renewed Facility Operating License Nos. DPR-44 and DPR-56: The amendments revised the Renewed Facility Operating Licenses and Technical Specifications.

Date of initial notice in Federal Register: November 21, 2017 (82 FR 55405), The supplemental letters dated letters dated August 1, August 14, and September 14, 2018, provided additional information that clarified the application, did not expand the scope of the application as originally noticed, and did not change the NRC staff's original proposed no significant hazards consideration determination as published in the Federal Register.

The Commission's related evaluation of the amendments is contained in a Safety Evaluation dated September 28, 2018.

No significant hazards consideration comments received: No.

South Carolina Electric & Gas Company, South Carolina Public Service Authority, Docket No. 50-395, Virgil C. Summer Nuclear Station, Unit No. 1, Fairfield County, South Carolina

Date of amendment request: April 3, 2018, as supplemented by letter dated August 22, 2018.

Brief description of amendment: This amendment changes Technical Specification Table 4.3-1, “Reactor Trip System Instrumentation Surveillance Requirements” Functional Units 17.A, Turbine Trip—Low Fluid Oil Pressure, and 17.B, Turbine Trip—Turbine Stop Valve Closure. Specifically, the Trip Actuating Device Operational Test column of Table 4.3-1 is revised to delete performing the 17.A and 17.B surveillance requirements prior to reactor startup (S/U) and replacing this requirement with a reference to Table Notation (8), that states 17.A and 17.B surveillance requirements will be conducted “Prior to entering MODE 1 whenever the unit has been in MODE 3.”

Date of issuance: October 5, 2018.

Effective date: As of the date of issuance and shall be implemented within 7 days of issuance.

Amendment No.: 212. A publicly-available version is in ADAMS under Accession No. ML18253A115, documents related to this amendment are listed in the Safety Evaluation enclosed with the amendment.

Renewed Facility Operating License No. NPF-12: Amendment revised the Renewed Facility Operating License and the TS.

Date of initial notice in Federal Register: May 22, 2018 (83 FR 23736). The supplemental letter dated August 22, 2018, provided additional information that clarified the application, did not expand the scope of the application as originally noticed, and did not change the staff's original proposed no significant hazards consideration determination as published in the Federal Register.

The Commission's related evaluation of the amendment is contained in a Safety Evaluation dated October 5, 2018.

No significant hazards consideration comments received: No.

Southern Nuclear Operating Company, Docket Nos. 52-025 and 52-026, Vogtle Electric Generating Plant (VEGP), Units 3 and 4, Burke County, Georgia

Date of amendment request: November 17, 2017, as supplemented by letter dated June 8, 2018.

Brief description of amendment: The amendment authorized changes to the VEGP Units 3 and 4 Updated Final Safety Analysis Report (UFSAR) in the form of departures from the incorporated plant-specific Design Control Document Tier 2* and associated Tier 2 information and a Combined License (COL) License Condition which references a UFSAR section impacted by one of the changes. Specifically, the amendment revises COL License Condition 2.D.(4)(b), requirement to perform the Natural Circulation test (first plant test) using the steam generators identified in UFSAR, Subsection 14.2.10.3.6, and Passive Residual Heat Removal (PRHR) Heat Exchanger test (first plant test) identified in UFSAR, Subsection 14.2.10.3.7, as part of the Initial Criticality and Low-Power Testing requirements. The changes to the Natural Circulation test suspend the requirements of COL Appendix A, Technical Specification 3.4.4 during performance of the test. Also the amendment changes the PRHR Heat Exchanger Test to be performed as part of the Power Ascension Testing as specified in COL License Condition 2.D.(5)(b) instead of as part of the Initial Criticality and Low-Power Testing requirements as currently specified in COL License Condition 2.D.(4)(b).

Date of issuance: July 11, 2018.

Effective date: As of the date of issuance and shall be implemented within 30 days of issuance.

Amendment No.: 132 (Unit 3) and 131 (Unit 4). A publicly-available version is in ADAMS under Accession No. ML18179A336. The documents related to these amendments are listed in the Safety Evaluation enclosed with the amendments.

Facility Combined Licenses Nos. NPF-91 and NPF-92: Amendment revised the Facility Combined Licenses.

Date of initial notice in Federal Register: February 13, 2018 (83 FR 6218). The June 8, 2018, letter provided additional information that did not change the scope or the conclusions of the No Significant Hazard Determination.

The Commission's related evaluation of the amendment is contained in a Safety Evaluation dated July 11, 2018.

No significant hazards consideration comments received: No.

Southern Nuclear Operating Company, Docket Nos. 52-025 and 52-026, Vogtle Electric Generating Plant (VEGP), Units 3 and 4, Burke County, Georgia

Date of amendment request: September 8, 2018.

Description of amendment: The amendment proposes changes to (1) the design of the Protection and Safety Monitoring (PMS) system and associated changes to Chapter 15 transient and accident analyses, (2) changes to technical specifications for the moderator temperature coefficient (MTC), and (3) additional changes to technical specifications for power distributions and the On-Line Power Distribution Monitoring System (OPDMS). The proposed changes to the PMS system and the crediting of trips in the Chapter 15 transient and accident analyses address issues caused by increased uncertainties in the ex-core nuclear instrumentation during mechanical shim operations. The proposed changes to the technical specifications for MTC modify the surveillance of MTC to address surveillance issues at beginning of life and end of life. The proposed changes to technical specifications for the power distribution and OPDMS update these technical specifications to accurately reflect system capabilities.

Date of issuance: September 27, 2018.

Effective date: As of the date of issuance and shall be implemented within 30 days of issuance.

Amendment Nos.: 144 (Unit 3) and 143 (Unit 4). A publicly-available version is in ADAMS under Accession No. ML18239A192; documents related to this amendment are listed in the Safety Evaluation enclosed with the amendment.

Facility Combined Licenses No. NPF-91 and NPF-92: Amendment revised the Facility Combined Licenses.

Date of initial notice in Federal Register: October 24, 2018 (82 FR 49234).

The Commission's related evaluation of the amendment is contained in the Safety Evaluation dated September 27, 2018.

No significant hazards consideration comments received: No.

Susquehanna Nuclear, LLC, Docket Nos. 50-387 and 50-388, Susquehanna Steam Electric Station, Units 1 and 2, Luzerne County, Pennsylvania

Date of amendment request: September 20, 2017, as supplemented by letters dated February 16, 2018, and May 15, 2018.

Brief description of amendments: The amendments revised Technical Specification requirements associated with “operations with a potential for draining the reactor vessel [OPDRVs]” with new requirements on reactor pressure vessel water inventory control to protect Safety Limit 2.1.1.3. Safety Limit 2.1.1.3 requires reactor pressure vessel water level to be greater than the top of active irradiated fuel. The changes are based on Technical Specifications Task Force (TSTF) Traveler TSTF-542, Revision 2, “Reactor Pressure Vessel Water Inventory Control.”

Date of issuance: September 26, 2018.

Effective date: As of the date of issuance and shall be implemented on both units no later than initial entry into Mode 4 for Unit 2 during the Spring 2019 Unit 2 refueling outage.

Amendment Nos.: 271 for Unit 1 and 253 for Unit 2. A publicly-available version is in ADAMS under Accession No. ML18222A203; documents related to these amendments are listed in the Safety Evaluation enclosed with the amendments.

Renewed Facility Operating License Nos. NPF-14 and NPF-22: The amendments revised the Renewed Facility Operating Licenses and Technical Specifications.

Date of initial notice in Federal Register: November 21, 2017 (82 FR 55414). The supplemental letters dated February 16, 2018, and May 15, 2018, provided additional information that clarified the application, did not expand the scope of the application as originally noticed, and did not change the NRC staff's original proposed no significant hazards consideration determination as published in the Federal Register.

The Commission's related evaluation of the amendments is contained in a Safety Evaluation dated September 26, 2018.

No significant hazards consideration comments received: No.

Tennessee Valley Authority, Docket Nos. 50-259, 50-260, and 50-296, Browns Ferry Nuclear Plant, Units 1, 2, and 3, Limestone County, Alabama

Date of amendment request: August 15, 2017. As supplemented by letters dated February 5, March 27, and July 27, 2018.

Brief description of amendments: The amendments revised the Browns Ferry Nuclear Plant, Units 1, 2, and 3, Technical Specification 5.5.12, “Primary Containment Leakage Rate Testing Program,” by adopting Nuclear Energy Institute (NEI) 94-01, Revision 3-A, “Industry Guideline for Implementing Performance-Based Option of 10 CFR part 50, Appendix J,” as the implementation document for the performance-based Option B of 10 CFR part 50, appendix J. The amendments allow the licensee to extend the Type A containment integrated leak rate testing interval from 10 years to 15 years and the Type C local leakage rate testing intervals from 60 months to 75 months.

Date of issuance: September 27, 2018.

Effective date: As of the date of issuance and shall be implemented prior to Unit 2 startup following the spring 2019 refueling outage.

Amendment Nos.: 305 (Unit 1); 328 (Unit 2); and 288 (Unit 3). A publicly-available version is in ADAMS under Accession No. ML18251A003; documents related to these amendments are listed in the Safety Evaluation enclosed with the amendments.

Renewed Facility Operating License Nos. DPR-33, DPR-52, and DPR-68: The amendments revised the Renewed Facility Operating Licenses and Technical Specifications.

Date of initial notice in Federal Register: November 21, 2017 (82 FR 55415). The supplemental letters dated February 5, March 27, and July 27, 2018, provided additional information that clarified the application, did not expand the scope of the application as originally noticed, and did not change the NRC staff's original proposed no significant hazards consideration determination as published in the Federal Register.

The Commission's related evaluation of the amendments is contained in a Safety Evaluations dated September 27, 2018.

No significant hazards consideration comments received: No.

Virginia Electric and Power Company, Docket Nos. 50-280 and 50-281, Surry Power Station, Unit Nos. 1 and 2, Surry County, Virginia.

Date of amendment request: Dated November 7, 2017, as supplemented by letters dated June 21, 2018, and October 3, 2018.

Brief description of amendments: The amendments revised the Surry Power Station (SPS) Units 1 and 2 Technical Specification (TS) 3.16, “Emergency Power System,” to provide a temporary, one-time 21-day allowed outage time (AOT) for replacement of Reserve Station Service Transformer (RSST) C and associated cabling.

Date of issuance: October 5, 2018.

Effective date: As of the date of issuance and shall be implemented within 60 days of issuance.

Amendment Nos.: 293 and 293. A publicly-available version is in ADAMS under Accession No. ML18261A099; documents related to these amendments are listed in the Safety Evaluation enclosed with the amendments.

Renewed Facility Operating License Nos. DPR-32 and DPR-37: Amendments revised the Facility Operating Licenses and Technical Specifications.

Date of initial notice in Federal Register: February 13, 2018, 83 FR 6236. The supplemental letters dated June 21, 2018, and October 3, 2018, provided additional information that clarified the application, did not expand the scope of the application as originally noticed, and did not change the staff's original proposed no significant hazards consideration determination as published in the Federal Register.

The Commission's related evaluation of the amendment is contained in a Safety Evaluation dated October 5, 2018.

No significant hazards consideration comments received: No.

IV. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

South Carolina Electric & Gas Company, South Carolina Public Service Authority, Docket No. 50-395, Virgil C. Summer Nuclear Station, Unit No. 1, Fairfield County, South Carolina

Date of amendment request: August 24, 2018, as supplemented by letters dated August 31, September 11, and September 19, 2018.

Description of amendment request: The amendment revised the Summer, Unit No. 1, Technical Specifications (TS) for a one-time extension to the TS surveillance requirement of channel calibrations of the Core Exit Temperature Instrumentation. The surveillance requirement of TS 4.3.3.6 was revised to allow a one-time extension of the frequency of the Core Exit Temperature Instrumentation Channel Calibrations from “every refueling outage”, which has been interpreted as 18 months, to “every 19 months.”

Date of issuance: September 25, 2018.

Effective date: As of its issuance date and shall be implemented upon approval.

Amendment No.: 211. A publicly-available version is in ADAMS under Accession No. ML18260A027; documents related to this amendment are listed in the Safety Evaluation enclosed with the amendment.

[Renewed] Facility Operating License No. NPF-12: The amendment revised the facility operating license.

Public comments requested as to proposed no significant hazards consideration (NSHC): Yes. An individual 14-day notice for comments was published in the Federal Register on September 10, 2018 (83 FR 45688). The notice provided an opportunity to submit comments on the Commission's proposed NSHC determination. One comment from a member of the public was received, however it was not related to the proposed no significant hazards consideration determination or to the proposed license amendment request. The notice also provided an opportunity to request a hearing by November 9, 2018, but indicated that if the Commission makes a final NSHC determination, any such hearing would take place after issuance of the amendment.

The supplemental letters dated August 31, September 11, and September 19, 2018 provided additional information that clarified the application, did not expand the scope of the application as originally noticed, and did not change the staff's original proposed no significant hazards consideration determination as published in the Federal Register on September 10, 2018.

The Commission's related evaluation of the amendment, finding of exigent circumstances, state consultation, and final NSHC determination are contained in a Safety Evaluation dated September 25, 2018.

Attorney for licensee: Kathryn M. Sutton, Morgan, Lewis & Bockius LLP, 1111 Pennsylvania Avenue NW, Washington, DC 20004.

NRC Branch Chief: Michael T. Markley.

Dated at Rockville, Maryland, this 10th day of October, 2018.
For the Nuclear Regulatory Commission.
Kathryn M. Brock,
Deputy Director, Division of Operating Reactor Licensing, Office of Nuclear Reactor Regulation.

[FR Doc. 2018-22654 Filed 10-22-18; 8:45 am]

BILLING CODE 7590-01-P